DEPARTMENT OF ENERGY

Federal Energy Regulatory Commission

Notice of Effectiveness of Exempt Wholesale Generator and Foreign Utility Company Status

Wind Wall 1 LLC | EG20-111-000
Cedar Creek II, LLC | EG20-112-000
Midlands Solar LLC | EG20-113-000
Midlands Lessee LLC | EG20-114-000
Briar Creek Solar 1, LLC | EG20-115-000
Elm Branch Solar 1, LLC | EG20-116-000
Huntley Solar, LLC | EG20-117-000
Cubico Huntley Lessee, LLC | EG20-118-000
Richmond Spider Solar LLC | EG20-119-000
Pleinmont Solar 2, LLC | EG20-120-000
Pleinmont Solar 1, LLC | EG20-121-000
Highlander Solar Energy Station 1, LLC | EG20-122-000
Highlander IA, LLC | EG20-123-000
Lone Tree Wind, LLC | EG20-124-000
Techren Solar III LLC | EG20-125-000
Techren Solar IV LLC | EG20-126-000
Mountain Breeze Wind, LLC | EG20-127-000
Assembly Solar, LLC | EG20-128-000
Bighorn Solar 1, LLC | EG20-129-000
IP Aragorn, LLC | EG20-134-000
IP Juno, LLC | EG20-135-000
IP Titan, LLC | EG20-136-000
AES ES Alamitos, LLC | EG20-137-000
Little Bear Master Tenant, LLC | EG20-139-000
Raymond Wind Farm, LLC | EG20-140-000
West Raymond Wind Farm, LLC | EG20-141-000
Boiling Springs Wind Farm, LLC | EG20-142-000
Cimarron Bend Wind Project III, LLC | EG20-143-000
Aurora Wind Project, LLC | EG20-144-000
Taygete Energy Project, LLC | EG20-145-000
Biomasseheizkraftwerk Zolling GmbH | FC20-5-000
ENGIE Kraftwerke Farge GmbH & Co KGaA | FC20-6-000
ENGIE Kraftwerke Zolling GmbH & Co KGaA | FC20-7-000
ENGIE Kraftwerke Wilhemshaven GmbH & Co KG | FC20-8-000
Power Plant Rotterdam B.V | FC20-9-000

Take notice that during the month of June 2020, the status of the above-captioned entities as Exempt Wholesale Generators or Foreign Utility Companies became effective by operation of the Commission's regulations. 18 CFR 366.7(a) (2019).

Dated: July 10, 2020.
Nathaniel J. Davis, Sr.,
Deputy Secretary.

[FR Doc. 2020-16083 Filed 7-23-20; 8:45 am]

BILLING CODE 6717-01-P